DEPARTMENT OF LABOR

Employment and Training Administration

[TA-W-70,045]

Victoria and Company, Ltd., A Division of Jones Apparel Group, East Providence, RI; Notice of Affirmative Determination Regarding Application for Reconsideration

By application dated September 30, 2009, the petitioners requested administrative reconsideration of the negative determination regarding workers' eligibility to apply for Trade Adjustment Assistance (TAA) applicable to workers and former workers of the subject firm. The determination was issued on September 10, 2009. The Notice of Determination will soon be published in the Federal Register.

The initial investigation resulted in a negative determination based on the finding that imports of solid fragrance compacts did not contribute importantly to worker separations at the subject firm. The investigation revealed that the subject firm did not shift production of solid fragrance compacts to foreign countries during the period under investigation.

In the request for reconsideration, the petitioner alleged that workers of the subject firm also designed and fabricated jewelry master models and that the subject firm shifted production of master models to China.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 22nd day of October 2009.
Elliott S. Kushner,
Certifying Officer, Division of Trade Adjustment Assistance.

[FR Doc. E9-26561 Filed 11-4-09; 8:45 am]

BILLING CODE 4510-FN-P